DEPARTMENT OF LABOR

Office of the Secretary

Submission for OMB Review: Comment Request

August 21, 2006.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Ira Mills on 202-693-4122 (this is not a toll-free number) or E-mail: Mills.Ira@dol.gov. You can also access the documents online at http://www.doleta.gov/Performance/guidance/OMBControlNumber.cfm.

Comments should be sent to the Office of Information and Regulatory Affairs, Attn: OMB Desk Officer for ETA, Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration (ETA).

Type of Review: New.

Title: U.S. DOL Employment and Training Administration Financial Reporting Form, ETA 9130.

OMB Number: 1205-0NEW.

Frequency: Quarterly.

Affected Public: Business or other for-profit and not-for-profit institutions.

Type of Response: Reporting.

Number of Respondents: 680.

Annual Responses: 5440.

Average Response Time: 1/2 hour.

Total Annual Burden Hours: 2720.

Total Annualized Capital/Startup Costs: 0.

Total Annual Costs (operating/maintaining systems or purchasing services): 0.

Description: Financial Reporting Requirements for all ETA programs currently reporting on the SF 269 will report on form ETA 9130, which is consistent with OMB's efforts to streamline Federal Financial Reporting. The most significant features are the inclusion of Federal Cash data and Administrative Expenditures on the quarterly Financial Report. Software containing the data elements will be provided to all grantees required to submit ETA-9130, to enable electronic reporting via the Internet.

Ira L. Mills,
Departmental Clearance Officer/Team Leader.

[FR Doc. E6-14118 Filed 8-24-06; 8:45 am]

BILLING CODE 4510-30-P